Proclamation 9735 of April 30, 2018

National Mental Health Awareness Month, 2018

By the President of the United States of America

A Proclamation

During the month of May, we observe National Mental Health Awareness Month and reaffirm our commitment to improving the overall health and well-being of our Nation. America has made tremendous strides in providing treatment and recovery support services for individuals who experience mental illnesses. Yet sadly, stigma and misconceptions about mental illness persist. The negative stereotypes surrounding mental illness deter people who may experience these disorders from getting help that can improve their lives and their ability to achieve their full potential.

Approximately one in five Americans experiences a mental illness, yet only about one third of them will access treatment. For this reason, my fiscal year 2019 budget request to the Congress includes $10 billion in new funding to combat the opioid epidemic and address serious mental illness. This funding will improve access to evidence-based treatment services for those who are seriously mentally ill. My budget also requests new funding for the Substance Abuse and Mental Health Services Administration to ensure more adults with serious mental illness receive Assertive Community Treatment, an evidence-based practice that provides a comprehensive array of services to reduce costly hospitalizations. Additionally, my budget maintains funding for the Community Mental Health Services Block Grant, which helps ensure that individuals with serious mental illness receive appropriate treatment in a timely manner. Further, it includes new targeted investments to help divert individuals with serious mental illnesses from the criminal justice system and into treatment. Finally, it funds important suicide prevention activities.

As part of an ongoing effort to improve the quality and availability of treatment for people with mental illnesses in our healthcare systems, I appointed the first Assistant Secretary of Mental Health and Substance Use to ensure that all agencies are working together to increase access to the best treatment and recovery services possible. This will accelerate research and innovation through the Department of Health and Human Services and other executive departments and agencies. Additionally, we have launched the inaugural Interdepartmental Serious Mental Illness Coordinating Committee, which will improve the lives of individuals and families who have been affected by serious mental illness. This Committee will coordinate services across multiple agencies and will serve as a national model to improve access to evidence-based treatment and services most needed by persons with severe mental illness or those who are seriously disturbed emotionally.

This month, and always, we pledge to strive to eliminate the stigma of mental illness by increasing awareness for all Americans that these illnesses are common and treatable, and that recovery is possible. Through these efforts, our neighbors, co-workers, family, and friends affected by mental illness will know that there is hope for recovery and hope for healthier, more productive lives.

NOW, THEREFORE, I, DONALD J. TRUMP, President of the United States of America, by virtue of the authority vested in me by the Constitution and the laws of the United States do hereby proclaim May 2018 as National Mental Health Awareness Month. I call upon all Americans to support citizens suffering from mental illness, raise awareness of mental health conditions through appropriate programs and activities, and commit our Nation to innovative prevention, diagnosis, and treatment.

IN WITNESS WHEREOF, I have hereunto set my hand this thirtieth day of April, in the year of our Lord two thousand eighteen, and of the Independence of the United States of America the two hundred and forty-second.

[FR Doc. 2018-09730

Filed 5-3-18; 11:15 am]

Billing code 3295-F8-P